DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of four individuals that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Actions

On November 13, 2018, OFAC determined that the property and interests in property subject to U.S. jurisdiction of the following persons are blocked under the relevant sanctions authorities listed below.

Individuals

1. AL-ZAYDI, Shibl Muhsin `Ubayd (a.k.a. AL ZAIDI, Shebl; a.k.a. AL ZAIDI, Shibl; a.k.a. AL-ZADI, Shibl Muhsin Ubayd; a.k.a. AL-ZAYDI, Hajji Shibl Muhsin; a.k.a. MAHDI, Ja'far Salih; a.k.a. “SHIBL, Hajji”), Iraq; DOB 28 Oct 1968; POB Baghdad, Iraq; Additional Sanctions Information—Subject to Secondary Sanctions Pursuant to the Hizballah Financial Sanctions Regulations; alt. Additional Sanctions Information—Subject to Secondary Sanctions; Gender Male (individual) [SDGT] [IRGC] [IFSR] (Linked To: ISLAMIC REVOLUTIONARY GUARD CORPS (IRGC)-QODS FORCE; Linked To: HIZBALLAH).

Designated pursuant to section 1(c) of Executive Order 13224 of September 23, 2001, “Blocking Property and Prohibiting Transactions With Persons Who Commit, Threaten to Commit, or Support Terrorism” (E.O. 13224) for acting for or on behalf of ISLAMIC REVOLUTIONARY GUARD CORPS (IRGC)-QODS FORCE, an entity determined to be subject to E.O. 13224.

Designated pursuant to section 1(d)(i) of Executive Order 13224 of September 23, 2001, “Blocking Property and Prohibiting Transactions With Persons Who Commit, Threaten to Commit, or Support Terrorism” (E.O. 13224) for assisting in, sponsoring, or providing financial, material, or technological support for, or financial or other services to or in support of HIZBALLAH, an entity determined to be subject to E.O. 13224.

2. HASHIM, Yusuf (a.k.a. HASHIM, Yusef; a.k.a. “SADIQ, Hajji”; a.k.a. “SADIQ, Sayyid”), Al Zahrani, Lebanon; DOB 1962; POB Beirut, Lebanon; Additional Sanctions Information—Subject to Secondary Sanctions Pursuant to the Hizballah Financial Sanctions Regulations; Gender Male (individual) [SDGT] (Linked To: HIZBALLAH).

Designated pursuant to section 1(c) of Executive Order 13224 of September 23, 2001, “Blocking Property and Prohibiting Transactions With Persons Who Commit, Threaten to Commit, or Support Terrorism” (E.O. 13224) for acting for or on behalf of HIZBALLAH, an entity determined to be subject to E.O. 13224.

3. FARHAT, Muhammad `Abd-Al-Hadi (a.k.a. FARHAT, Mohamad), Iraq; DOB 06 Apr 1967; POB Kuwait; nationality Lebanon; Additional Sanctions Information—Subject to Secondary Sanctions Pursuant to the Hizballah Financial Sanctions Regulations; Gender Male; Passport RL 2274078 (individual) [SDGT] (Linked To: HIZBALLAH).

Designated pursuant to section 1(c) of Executive Order 13224 of September 23, 2001, “Blocking Property and Prohibiting Transactions With Persons Who Commit, Threaten to Commit, or Support Terrorism” (E.O. 13224) for acting for or on behalf of HIZBALLAH, an entity determined to be subject to E.O. 13224.

4. KAWTHARANI, Adnan Hussein (a.k.a. AL-KAWTHARANI, Adnan; a.k.a. KAWTHARANI, Adnan Mahmud; a.k.a. KAWTHRANI, Adnan; a.k.a. KUTHERANI, Adnan), Al Zahrani, Lebanon; Najaf, Iraq; DOB 02 Sep 1954; POB Lebanon; Additional Sanctions Information—Subject to Secondary Sanctions Pursuant to the Hizballah Financial Sanctions Regulations; Gender Male (individual) [SDGT] (Linked To: HIZBALLAH).

Designated pursuant to section 1(d)(i) of Executive Order 13224 of September 23, 2001, “Blocking Property and Prohibiting Transactions With Persons Who Commit, Threaten to Commit, or Support Terrorism” (E.O. 13224) for assisting in, sponsoring, or providing financial, material, or technological support for, or financial or other services to or in support of HIZBALLAH, an entity determined to be subject to E.O. 13224.

Dated: November 13, 2018.
Andrea Gacki,
Director, Office of Foreign Assets Control.

[FR Doc. 2018-25068 Filed 11-15-18; 8:45 am]

BILLING CODE 4810-AL-P